SMALL BUSINESS ADMINISTRATION

[Disaster Declaration #10527]

Oregon Disaster #OR-00013 Declaration of Economic Injury

AGENCY: Small Business Administration.

ACTION: Amendment 1.

SUMMARY: This is an amendment of the Economic Injury Disaster Loan (EIDL) declaration for the State of Oregon; Disaster #OR-00013 dated 7/6/2006.

Incident: Fishery Resource Disaster.

Incident Period: 1/1/2001 through 12/31/2005.

Effective Date: 7/6/2006.

EIDL Loan Application Deadline Date: 4/6/2007.

ADDRESSES: Submit completed loan applications to: Small Business Administration National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Economic Injury Disaster Loan declaration for the fishery resource disaster under 308(b) of Interjurisdictional Fisheries Act of 1986, as amended, to help West Coast fishing communities in Oregon and California as determined by the Secretary of Commerce, is hereby amended to include the following areas as adversely affected by the disaster.

Primary Counties: Clatsop.

Contiguous Counties: Washington: Wahiakum.

All other information in the original declaration remains unchanged.

(Catalog of Federal Domestic Assistance Numbers 59002)

Herbert L. Mitchell,
Associate Administrator for Disaster Assistance.

[FR Doc. E6-11589 Filed 7-20-06; 8:45 am]

BILLING CODE 8025-01-P